GULF COAST ECOSYSTEM RESTORATION COUNCIL

[Docket No: 112102020-1111-01]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provide a written recommendation to the Chairperson of the Council for final approval of each executive's performance rating, performance-based pay adjustment, and performance award.

DATES: The board membership is applicable beginning on 12/01/2020 and ending on 12/31/21.

FOR FURTHER INFORMATION CONTACT: Mary C. Pleffner, Chief Financial Officer and Director of Assistance, Gulf Coast Ecosystem Restoration Council, telephone 813-394-2185.

SUPPLEMENTARY INFORMATION: In accordance with 5 U.S.C. 4314(c)(4), the persons named below have been selected to serve on the PRB:

Department of Interior

Blanchard, Mary Josie, Deputy Director, Environmental Protection Compliance, MaryJosie_Blanchard@ios.doi.gov, 202-208-3406.

State of Alabama

Blankenship, Christopher, Commissioner of Conservation and Natural Resources, Chris.blankenship@dcnr.alabama.gov, 334-242-3486.

Environmental Protection Agency

Wyatt, Marc, Director, Gulf of Mexico Division, Wyatt.marc@epa.gov, 228-679-5915.

State of Texas

Baker, Toby, Texas Commission of Environmental Quality, Toby.Baker@tceq.texas.gov, 512-239-5515.

Keala Hughes,
Director of External Affairs & Tribal Relations, Gulf Coast Ecosystem Restoration Council.

[FR Doc. 2020-27617 Filed 12-15-20; 8:45 am]

BILLING CODE 6560-58-P